DEPARTMENT OF THE INTERIOR

Fish and Wildlife Service

[FWS-R4-ES-2023-N042; FXES11140400000-234-FF04E00000]

Endangered Species; Recovery Permit Applications

AGENCY: Fish and Wildlife Service, Interior.

ACTION: Notice of receipt of permit applications; request for comments.

SUMMARY: We, the U.S. Fish and Wildlife Service, have received applications for permits to conduct activities intended to enhance the propagation or survival of endangered species under the Endangered Species Act. We invite the public and local, State, Tribal, and Federal agencies to comment on these applications. Before issuing any of the requested permits, we will take into consideration any information that we receive during the public comment period.

DATES: We must receive written data or comments on the applications by June 20, 2023.

ADDRESSES:

Reviewing Documents: Submit requests for copies of applications and other information submitted with the applications to Karen Marlowe (see FOR FURTHER INFORMATION CONTACT). All requests and comments should specify the applicant name and application number (e.g., Mary Smith, ESPER0001234).

Submitting Comments: If you wish to comment, you may submit comments by one of the following methods:

• Email (preferred method): permitsR4ES@fws.gov. Please include your name and return address in your email message. If you do not receive a confirmation from the U.S. Fish and Wildlife Service that we have received your email message, contact us directly at the telephone number listed in FOR FURTHER INFORMATION CONTACT.

• U.S. mail: U.S. Fish and Wildlife Service Regional Office, Ecological Services, 1875 Century Boulevard, Atlanta, GA 30345 (Attn: Karen Marlowe, Permit Coordinator).

FOR FURTHER INFORMATION CONTACT: Karen Marlowe, Permit Coordinator, 404-679-7097 (telephone) or karen_marlowe@fws.gov (email). Individuals in the United States who are deaf, deafblind, hard of hearing, or have a speech disability may dial 711 (TTY, TDD, or TeleBraille) to access telecommunications relay services. Individuals outside the United States should use the relay services offered within their country to make international calls to the point-of-contact in the United States.

SUPPLEMENTARY INFORMATION: We, the U.S. Fish and Wildlife Service, invite review and comment from the public and local, State, Tribal, and Federal agencies on applications we have received for permits to conduct certain activities with endangered and threatened species under section 10(a)(1)(A) of the Endangered Species Act of 1973, as amended (ESA; 16 U.S.C. 1531 et seq.), and our regulations in the Code of Federal Regulations (CFR) at 50 CFR part 17. Documents and other information submitted with the applications are available for review, subject to the requirements of the Privacy Act of 1974, as amended (5 U.S.C. 552a) and the Freedom of Information Act (5 U.S.C. 552).

Background

With some exceptions, the ESA prohibits take of listed species unless a Federal permit is issued that authorizes such take. The ESA's definition of “take” includes hunting, shooting, harming, wounding, or killing, and also such activities as pursuing, harassing, trapping, capturing, or collecting.

A recovery permit issued by us under section 10(a)(1)(A) of the ESA authorizes the permittee to take endangered or threatened species while engaging in activities that are conducted for scientific purposes that promote recovery of species or for enhancement of propagation or survival of species. These activities often include the capture and collection of species, which would result in prohibited take if a permit were not issued. Our regulations implementing section 10(a)(1)(A) for these permits are found at 50 CFR 17.22 for endangered wildlife species, 50 CFR 17.32 for threatened wildlife species, 50 CFR 17.62 for endangered plant species, and 50 CFR 17.72 for threatened plant species.

Permit Applications Available for Review and Comment

The ESA requires that we invite public comment before issuing these permits. Accordingly, we invite local, State, Tribal, and Federal agencies, and the public to submit written data, views, or arguments with respect to these applications. The comments and recommendations that will be most useful and likely to influence agency decisions are those supported by quantitative information or studies. Proposed activities in the following permit requests are for the recovery and enhancement of propagation or survival of the species in the wild.

Permit application No. | Applicant | Species | Location | Activity | Type of take | Permit action
PER0018443-0 | U.S. Army Engineer Research and Development Center; Vicksburg, MS | Fishes: Alabama sturgeon (Scaphirhynchus suttkusi), Arkansas River shiner (Notropis girardi), Big Bend gambusia (Gambusia gaigei), Clear Creek gambusia (Gambusia heterochir), Comanche Springs pupfish (Cyprinodon elegans), Devils River minnow (Dionda diaboli), duskytail darter (Etheostoma percnurum), fountain darter (Etheostoma fonticola), Leon Springs pupfish (Cyprinodon bovinus), Neosho madtom (Noturus placidus), pearl darter (Percina aurora), Pecos bluntnose shiner (Notropis simus pecosensis), Pecos gambusia (Gambusia nobilis), peppered chub (Macrhybopsis tetranema), Rio Grande silvery minnow (Hybognathus amarus), San Marcos gambusia (Gambusia georgei), sharpnose shiner (Notropis oxyrhynchus), smalleye shiner (Notropis buccula), Topeka shiner (Notropis topeka [= tristis]), and yellowcheek darter (Etheostoma moorei); Mussels: Alabama lampmussel (Lampsilis virescens), Alabama moccasinshell (Medionidus acutissimus), Arkansas fatmucket (Lampsilis powellii), black clubshell (Pleurobema curtum), clubshell (Pleurobema clava), Cumberlandian combshell (Epioblasma brevidans), Curtis pearlymussel (Epioblasma florentina curtisii), false spike (Fusconaia mitchelli), fanshell (Cyprogenia stegaria), finerayed pigtoe (Fusconaia cuneolus), flat pigtoe (Pleurobema marshalli), Guadalupe fatmucket (Lampsilis bergmanni), Guadalupe orb (Cyclonaias necki), heavy pigtoe (Pleurobema taitianum), Higgins eye (Lampsilis higginsii), longsolid (Fusconaia subrotunda), Louisiana pearlshell (Margaritifera hembeli), Neosho mucket (Lampsilis rafinesqueana), northern riffleshell (Epioblasma rangiana), orangenacre mucket (Hamiota perovalis), Ouachita rock pocketbook (Arcidens wheeleri), ovate clubshell (Pleurobema perovatum), round hickorynut (Obovaria subrotunda), scaleshell (Leptodea leptodon), slabside pearlymussel (Pleuronaia dolabelloides), snuffbox (Epioblasma triquetra), southern clubshell (Pleurobema decisum), southern combshell (Epioblasma penita), speckled pocketbook (Lampsilis streckeri), spectaclecase (Cumberlandia monodonta), stirrupshell (Quadrula stapes), Texas fatmucket (Lampsilis bracteate), Texas fawnsfoot (Truncilla macrodon), Texas hornshell (Popenaias popeii), Texas pimpleback (Cyclonaias petrina), turgid blossom (Epioblasma turgidula), and winged mapleleaf (Quadrula fragosa); Insects: American burying beetle (Nicrophorus americanus) | Alabama, Arkansas, Florida, Illinois, Indiana, Kentucky, Louisiana, Mississippi, Missouri, Ohio, Tennessee, Texas, and West Virginia | Presence/probable absence surveys and scientific studies | Capture, handle, identify, collect glochidia, and release | New.
ES91373A-4 | Jonathan Miller; Brundidge, AL | Alabama lampmussel (Lampsilis virescens), Alabama moccasinshell (Medionidus acutissimus), Alabama pearlshell (Margaritifera marrianae), black clubshell (Pleurobema curtum), Chipola slabshell (Elliptio chipolaensis), Choctaw bean (Obovaria choctawensis), Coosa moccasinshell (Medionidus parvulus), cracking pearlymussel (Hemistena lata), Cumberlandian combshell (Epioblasma brevidens), dark pigtoe (Pleurobema furvum), dromedary pearlymussel (Dromus dromas), fanshell (Cyprogenia stegaria), fat pocketbook (Potamilus capax), fat threeridge mussel (Amblema neislerii), finelined pocketbook (Hamiota altilis), finerayed pigtoe (Fusconaia cuneolus), fluted kidneyshell (Ptychobranchus subtentus), fuzzy pigtoe (Pleurobema strodeanum), Georgia pigtoe (Pleurobema hanleyianum), Gulf moccasinshell (Medionidus penicillatus), heavy pigtoe (Pleurobema taitianum), inflated heelsplitter (Potamilus inflatus), Louisiana pearlshell (Margaritifera hembeli), narrow pigtoe (Fusconaia escambia), orangenacre mucket (Hamiota perovalis), oval pigtoe (Pleurobema pyriforme), ovate clubshell (Pleurobema perovatum), pink mucket (Lampsilis abrupta), purple bankclimber (Elliptoideus sloatianus), rabbitsfoot (Quadrula cylindrica cylindrica), ring pink (Obovaria retusa), rough pigtoe (Pleurobema plenum), round ebonyshell (Reginaia rotulata), sheepnose (Plethobasus cyphyus), shiny pigtoe (Fusconaia cor), shinyrayed pocketbook (Hamiota subangulata), slabside pearlymussel (Pleuronaia dolabelloides), snuffbox (Epioblasma triquetra), southern clubshell (Pleurobema decisum), southern kidneyshell (Ptychobranchus jonesi), southern pigtoe (Pleurobema georgianum), southern sandshell (Hamiota australis), tapered pigtoe (Fusconaia burkei), and triangular kidneyshell (Ptychobranchus greenii) | Alabama, Florida, Georgia, Louisiana, and Mississippi | Presence/probable absence surveys | Capture, handle, identify, release, and salvage relic shells | Renewal.
ES56749B-5 | Patrick Moore; Johnson City, TN | Gray bat (Myotis grisescens), Indiana bat (Myotis sodalis), northern long-eared bat (Myotis septentrionalis), Ozark big-eared bat (Corynorhinus townsendii ingens), tricolored bat (Perimyotis subflavus), and Virginia big-eared bat (Corynorhinus townsendii virginianus) | Alabama, Arkansas, Connecticut, Delaware, Florida, Georgia, Illinois, Indiana, Iowa, Kansas, Kentucky, Louisiana, Maine, Maryland, Massachusetts, Michigan, Minnesota, Mississippi, Missouri, Montana, Nebraska, New Hampshire, New Jersey, New York, North Carolina, North Dakota, Ohio, Oklahoma, Pennsylvania, Rhode Island, South Carolina, South Dakota, Tennessee, Texas, Vermont, Virginia, West Virginia, Wisconsin, and Wyoming | Presence/probable absence surveys, studies to document habitat use, population monitoring, and studies to evaluate potential impacts of white-nose syndrome or other threats | Enter hibernacula or maternity roost caves, capture with mist nets or harp traps, handle, identify, band, radio tag, and release | Renewal and amendment.
ES070800-7 | Ecological Solutions, Inc; Roswell, GA | Fishes: amber darter (Percina antesella), blue shiner (Cyprinella caerulea), Cherokee darter (Etheostoma scotti), Conasauga logperch (Percina jenkinsi), Etowah darter (Etheostoma etowahae), goldline darter (Percina aurolineata), rush darter (Etheostoma phytophilum), snail darter (Percina tanasi), spring pygmy sunfish (Elassoma alabamae), and vermilion darter (Etheostoma chermocki); Mussels: Alabama moccasinshell (Medionidus acutissimus), Alabama pearlshell (Margaritifera marrianae), Altamaha spinymussel (Elliptio spinosa), Chipola slabshell (Elliptio chipolaensis), Choctaw bean (Obovaria choctawensis), Coosa moccasinshell (Medionidus parvulus), Cumberland bean (Villosa trabalis), fat threeridge (Amblema neislerii), finelined pocketbook (Hamiota altilis), fuzzy pigtoe (Pleurobema strodeanum), Georgia pigtoe (Pleurobema hanleyianum), Gulf moccasinshell (Medionidus penicillatus), narrow pigtoe (Fusconaia escambia), Ochlockonee moccasinshell (Medionidus simpsonianus), orangenacre mucket (Hamiota perovalis), oval pigtoe (Pleurobema pyriforme), ovate clubshell (Pleurobema perovatum), purple bankclimber (Elliptoideus sloatianus), rabbitsfoot (Quadrula cylindrica cylindrica), round ebonyshell (Reginaia rotulata), sheepnose (Plethobasus cyphyus), shinyrayed pocketbook (Hamiota subangulata), slabside pearlymussel (Pleuronaia dolabelloides), snuffbox (Epioblasma triquetra), southern acornshell (Epioblasma othcaloogenis), southern clubshell (Pleurobema decisum), southern combshell (Epioblasma penita), southern kidneyshell (Ptychobranchus jonesi), southern pigtoe (Pleurobema georgianum), southern sandshell (Hamiota australis), spectaclecase (Cumberlandia monodonta), tapered pigtoe (Fusconaia burkei), triangular kidneyshell (Ptychobranchus greenii), and upland combshell (Epioblasma metastriata) | Alabama, Florida, Georgia, North Carolina, and Tennessee | Presence/probable absence surveys | Capture, handle, identify, and release | Renewal.
ES070796-12 | Apogee Environmental & Archaeological, Inc.; Pittsburgh, PA | Gray bat (Myotis grisescens), Indiana bat (Myotis sodalis), northern long-eared bat (Myotis septentrionalis), Ozark big-eared bat (Corynorhinus townsendii ingens), and Virginia big-eared bat (Corynorhinus townsendii virginianus) | Alabama, Arkansas, Connecticut, Delaware, Georgia, Illinois, Indiana, Iowa, Kansas, Kentucky, Louisiana, Maine, Maryland, Massachusetts, Michigan, Mississippi, Missouri, Montana, Nebraska, New Hampshire, New Jersey, New York, North Carolina, North Dakota, Ohio, Oklahoma, Pennsylvania, Rhode Island, South Carolina, South Dakota, Tennessee, Virginia, Vermont, West Virginia, Wisconsin, and Wyoming | Presence/probable absence surveys, studies to document habitat use, population monitoring, and studies to evaluate potential impacts of white-nose syndrome or other threats | Enter hibernacula or maternity roost caves, capture with mist nets or harp traps, handle, identify, band, radio tag, and release | Renewal.
ES129703-7 | HMB Professional Engineers, Inc.; Frankfort, KY | Bats: gray bat (Myotis grisescens), Indiana bat (Myotis sodalis), northern long-eared bat (Myotis septentrionalis), tricolored bat (Perimyotis subflavus), and Virginia big-eared bat (Corynorhinus townsendii virginianus); Fishes: amber darter (Percina antesella), blackside dace, (Phoxinus cumberlandensis), blue shiner (Cyprinella caerulea), bluemask darter (Etheostoma akatulo), boulder darter (Etheostoma wapiti), Conasauga logperch (Percina jenkinsi), Cumberland darter (Etheostoma susanae), diamond darter (Crystallaria cincotta), duskytail darter (Etheostoma percnurum), Kentucky arrow darter (Etheostoma spilotum), palezone shiner (Notropis albizonatus), pygmy madtom (Noturus stanauli), relict darter (Etheostoma chienense), and smoky madtom (Noturus baileyi); Mussels: Alabama lampmussel (Lampsilis virescens), Appalachian elktoe (Alasmidonta raveneliana), Appalachian monkeyface (Theliderma sparsa), birdwing pearlymussel (Lemiox rimosus), clubshell (Pleurobema clava), Coosa moccasinshell (Medionidus parvulus), cracking pearlymussel (Hemistena lata), Cumberland bean (Villosa trabalis), Cumberland elktoe (Alasmidonta atropurpurea), Cumberland monkeyface (Theliderma intermedia), Cumberland pigtoe (Pleuronaia gibber), Cumberlandian combshell (Epioblasma brevidans), dromedary pearlymussel (Dromus dromas), fanshell (Cyprogenia stegaria), fat pocketbook (Potamilus capax) finerayed pigtoe (Fusconaia cuneolus), fluted kidneyshell (Ptychobranchus subtentus) green blossom (Epioblasma torulosa gubernaculum), littlewing pearlymussel (Pegias fabula), longsolid (Fusconaia subrotunda), northern riffleshell (Epioblasma rangiana), orangefoot pimpleback (pearlymussel) (Plethobasus cooperianus), oyster mussel (Epioblasma capsaeformis), pale lilliput (Toxolasma cylindrellus), pink mucket (Lampsilis abrupta), purple bean (Villosa perpurpurea), purple cat's paw (Epioblasma obliquata obliquata), rabbitsfoot (Quadrula cylindrica cylindrica), ring pink (Obovaria retusa), rough pigtoe (Pleurobema plenum), rough rabbitsfoot (Quadrula cylindrica strigillata), round hickorynut (Obovaria subrotunda), sheepnose (Plethobasus cyphyus), shiny pigtoe (Fusconaia cor), slabside pearlymussel (Pleuronaia dolabelloides), snuffbox (Epioblasma triquetra), southern acornshell (Epioblasma othcaloogensis), southern pigtoe (Pleurobema georgianum), spectaclecase (Cumberlandia monodonta), tan riffleshell (Epioblasma florentina walker [=E. walker]), triangular kidneyshell (Ptychobranchus greenii), turgid blossom (Epioblasma turgidula), upland combshell (Epioblasma metastriata), white wartyback (Plethobasus cicatricosus), winged mapleleaf (Quadrula fragosa), and yellow blossom (Epioblasma florentina florentina); Crustacean: Big Sandy crayfish (Cambarus callainus) | Alabama, Georgia, Indiana, Kentucky, North Carolina, Ohio, Tennessee, and West Virginia | Presence/probable absence surveys, studies to document habitat use, and population monitoring | Bats: enter hibernacula or maternity roost caves, capture with mist nets or harp traps, handle, identify, band, radio tag, and release; Fishes and Crustacean: capture, handle, identify, and release; Mussels: capture, handle, identify, release, and salvage relic shells | Renewal and amendment.
ES171545-4 | Ronald Redman; Benton, AR | Gray bat (Myotis grisescens), Indiana bat (Myotis sodalis), northern long-eared bat (Myotis septentrionalis), Ozark big-eared bat (Corynorhinus townsendii ingens), and Virginia big-eared bat (Corynorhinus townsendii virginianus) | Alabama, Arkansas, Delaware, Florida, Georgia, Illinois, Indiana, Iowa, Kansas, Kentucky, Louisiana, Maryland, Michigan, Minnesota, Mississippi, Missouri, New Jersey, New York, North Carolina, Ohio, Oklahoma, Pennsylvania, South Carolina, Tennessee, Texas, Vermont, Virginia, West Virginia, and Wisconsin | Presence/probable absence surveys and white-nose syndrome research | Enter hibernacula or maternity roost caves, capture with mist nets or harp traps, handle, identify, band, radio tag, swab, and release | Renewal.
ES71854A-1 | David Eargle; Columbia, SC | Carolina heelsplitter (Lasmigona decorata) | North Carolina and South Carolina | Presence/probable absence surveys | Capture, handle, identify, release, and salvage relic shells | Renewal.
PER1922058-0 | Tracy Feltman; Chatsworth, GA | Fishes: amber darter (Percina antesella), blue shiner (Cyprinella caerulea), Cherokee darter (Etheostoma scotti), Conasauga logperch (Percina jenkinsi), Etowah darter (Etheostoma etowahae), frecklebelly madtom (Noturus munitus), goldline darter (Percina aurolineata), and trispot darter (Etheostoma trisella); Mussels: Alabama moccasinshell (Medionidus acutissimus), Coosa moccasinshell (Medionidus parvulus), fat threeridge (Amblema neislerii), finelined pocketbook (Hamiota altilis), purple bankclimber (Elliptoideus sloatianus), shinyrayed pocketbook (Hamiota subangulata), and southern acornshell (Epioblasma othcaloogenis) | Georgia | Presence/probable absence surveys | Capture, handle, identify, and release | New.
ES63577A-3 | Mammoth Cave National Park; Mammoth Cave, KY | Gray bat (Myotis grisescens), Indiana bat (Myotis sodalis), northern long-eared bat (Myotis septentrionalis), and tricolored bat (Perimyotis subflavus) | Alabama, Georgia, Kentucky, Mississippi, North Carolina, South Carolina, Tennessee, and Virginia | Presence/probable absence surveys, studies to document habitat use, disease surveillance activities, and population monitoring | Enter hibernacula or maternity roost caves, capture with mist nets or harp traps, handle, identify, band, radio tag, collect hair samples, PIT tag, light tag, wing punch, and release | Renewal and amendment.
ES37900B-2 | Sarah Lauerman; Gainesville, FL | Red-cockaded woodpecker (Picoides borealis) | Osceola National Forest, Florida | Population monitoring and translocation of subadults from Osceola National Forest (donor population) to recruitment clusters | Capture, handle, band, monitor nest cavities, and translocate | Renewal.
ES53149B-3 | Hans William Otto; Tucson, AZ | Mammals: Gray bat (Myotis grisescens), Indiana bat (Myotis sodalis), northern long-eared bat (Myotis septentrionalis), Ozark big-eared bat (Corynorhinus townsendii ingens), and Virginia big-eared bat (Corynorhinus townsendii virginianus); Mice: New Mexico meadow jumping mouse (Zapus hudsonius luteus) | Alabama, Arizona, Arkansas, Connecticut, Delaware, Florida, Georgia, Illinois, Indiana, Iowa, Kansas, Kentucky, Maryland, Massachusetts, Michigan, Minnesota, Mississippi, Missouri, Nebraska, New Hampshire, New Jersey, New Mexico, New York, North Carolina, North Dakota, Ohio, Oklahoma, Pennsylvania, Rhode Island, South Carolina, South Dakota, Tennessee, Texas, Vermont, Virginia, West Virginia, Wisconsin, and Wyoming | Presence/probable absence surveys and scientific research | Bats: enter hibernacula or maternity roost caves, capture with mist nets or harp traps, handle, identify, collect hair samples, band, radio tag, light tag, collect fecal material, apply fungal lift tape, swab, wing punch, and release; Mice: live trap, handle, identify, and release | Renewal.
ES142294-6 | William Holiman; Little Rock, AR | Red-cockaded woodpecker (Picoides borealis) | Alabama, Arkansas, Florida, Georgia, Louisiana, Mississippi, North Carolina, Oklahoma, South Carolina, and Texas | Population management and monitoring | Capture, band, construct and monitor artificial nest cavities and restrictors, translocate, recapture, and release | Renewal.
ES066980-6 | Brandon Rutledge; Newton, GA | Red-cockaded woodpecker (Picoides borealis) | Georgia | Population management and monitoring | Capture, band, construct and monitor artificial nest cavities and restrictors, translocate, recapture, buccal swab, and release | Renewal.
PER2378263-0 | Anthony Ledbetter; Clyde, NC | Gray bat (Myotis grisescens), Indiana bat (Myotis sodalis), northern long-eared bat (Myotis septentrionalis), and tricolored bat (Perimyotis subflavus) | Alabama, Arkansas, Connecticut, Delaware, Florida, Georgia, Illinois, Indiana, Iowa, Kansas, Kentucky, Louisiana, Maine, Maryland, Massachusetts, Michigan, Minnesota, Mississippi, Missouri, Nebraska, New Hampshire, New Jersey, New York, North Carolina, North Dakota, Ohio, Oklahoma, Pennsylvania, Rhode Island, South Carolina, South Dakota, Tennessee, Texas, Vermont, Virginia, West Virginia, and Wisconsin | Presence/probable absence surveys | Enter hibernacula or maternity roost caves, capture with mist nets or harp traps, handle, identify, band, radio tag, and release | New.
ES63633A-7 | Biodiversity Research Institute; Portland, ME | Gray bat (Myotis grisescens), Indiana bat (Myotis sodalis), and northern long-eared bat (Myotis septentrionalis) | Alabama, Arkansas, Connecticut, Delaware, District of Columbia, Georgia, Illinois, Indiana, Iowa, Kansas, Kentucky, Louisiana, Maine, Maryland, Massachusetts, Michigan, Minnesota, Mississippi, Missouri, Montana, Nebraska, New Hampshire, New Jersey, New York, North Carolina, North Dakota, Ohio, Oklahoma, Pennsylvania, Rhode Island, South Carolina, South Dakota, Tennessee, Vermont, Virginia, West Virginia, Wisconsin, and Wyoming | Presence/probable absence surveys, studies to document habitat use, population monitoring, and studies to evaluate potential impacts of white-nose syndrome or other threats | Enter hibernacula or maternity roost caves, capture with mist nets or harp traps, handle, identify, band, collect hair samples, radio tag, wing punch, and release | Renewal.
ES034476-5 | Florida Forest Service; Milton, FL | Red-cockaded woodpecker (Picoides borealis) | Florida | Population management and monitoring | Install artificial nest cavities and restrictors, monitor nest cavities, capture, band, translocate, and release | Renewal.
PER2417230-0 | Zachariah Alley; Cincinnati, OH | Amber darter (Percina antesella), blackside dace (Phoxinus cumberlandensis), blue shiner (Cyprinella caerulea), candy darter (Etheostoma osburni), Carolina madtom (Noturus furiosus), Cherokee darter (Etheostoma scotti), chucky madtom (Noturus crypticus), Conasauga logperch (Percina jenkinsi), Cumberland darter (Etheostoma susanae), diamond darter (Crystallaria cincotta), Etowah darter (Etheostoma etowahae), frecklebelly madtom (Noturus munitus), goldline darter (Percina aurolineata), Kentucky arrow darter (Etheostoma spilotum), laurel dace (Chrosomus saylori), pallid sturgeon (Scaphirhynchus albus), relict darter (Etheostoma chienense), Roanoke logperch (Percina rex), smoky madtom (Noturus baileyi), and trispot darter (Etheostoma trisella) | Alabama, Arkansas, Georgia, Illinois, Iowa, Kansas, Kentucky, Louisiana, Mississippi, Missouri, Montana, Nebraska, North Carolina, North Dakota, South Dakota, Tennessee, Virginia, and West Virginia | Presence/probable absence surveys | Capture, handle, identify, and release | New.
ES22311A-6 | Tennessee Aquarium; Chattanooga, TN | Alabama cavefish (Speoplatyrhinus poulsoni), amber darter (Percina antesella), Barrens topminnow (Fundulus julisia), blue shiner (Cyprinella caerulea), Cahaba shiner (Notropis cahabae), Conasauga logperch (Percina jenkinsi), Cumberland darter (Etheostoma susanae), frecklebelly madtom (Noturus munitus), goldline darter (Percina aurolineata), laurel dace (Chrosomus saylori), rush darter (Etheostoma phytophylum), sickle darter (Percina williamsi), snail darter (Percina tanasi), trispot darter (Etheostoma trisella), vermilion darter (Etheostoma chermocki), and watercress darter (Etheostoma nuchale) | Alabama, Georgia, Kentucky, Tennessee, and Virginia | Presence/probable absence surveys, tissue collection for genetic analysis, and captive propagation | Capture, identify, take fin clips, and release | Renewal and amendment.

Public Availability of Comments

Written comments we receive become part of the administrative record associated with this action. Before including your address, phone number, email address, or other personal identifying information in your comment, you should be aware that your entire comment—including your personal identifying information—may be made publicly available at any time. While you can ask us in your comment to withhold your personal identifying information from public review, we cannot guarantee that we will be able to do so. All submissions from organizations or businesses, and from individuals identifying themselves as representatives or officials of organizations or businesses, will be made available for public disclosure in their entirety.

Next Steps

If we decide to issue a permit to an applicant listed in this notice, we will publish a notice in the Federal Register.

Authority

We publish this notice under section 10(c) of the Endangered Species Act of 1973, as amended (16 U.S.C. 1531 et seq.).

John Tirpak,
Deputy Assistant Regional Director, Ecological Services, Southeast Region.

[FR Doc. 2023-10647 Filed 5-17-23; 8:45 am]

BILLING CODE 4333-15-P